NUCLEAR REGULATORY COMMISSION

[Docket No. 55-23694-SP; ASLBP No. 13-925-01-SP-BD01]

Charlissa C. Smith (Denial of Senior Reactor Operator License)

Notice of Atomic Safety and Licensing Board Reconstitution

Pursuant to 10 CFR 2.313(c) and 2.321(b), the Atomic Safety and Licensing Board (Board) in the above-captioned Charlissa C. Smith case is hereby reconstituted because Administrative Judge Alan S. Rosenthal, who has been serving as Board Chairman, is unavailable for continued service on this case. Administrative Judge Ronald M. Spritzer, who currently is serving on the Board, is appointed to serve as the Board Chairman, and Administrative Judge William J. Froehlich is appointed to serve as the third member of the Board in place of Judge Rosenthal.

All correspondence, documents, and other materials shall continue to be filed in accordance with the NRC E-Filing rule. See 10 CFR 2.302 et seq.

Issued at Rockville, Maryland this 5th day of March 2013.
E. Roy Hawkens,
Chief Administrative Judge, Atomic Safety and Licensing Board Panel.

[FR Doc. 2013-05614 Filed 3-11-13; 8:45 am]

BILLING CODE 7590-01-P